FEDERAL COMMUNICATIONS COMMISSION

47 CFR Part 25

[IB Docket Nos. 02-34 and 00-248, FCC 03-154]

Satellite Licensing Procedures

AGENCY: Federal Communications Commission.

ACTION: Final rule.

SUMMARY: In this document, the Commission adopts revisions to a new filing form for satellite license applications, entitled “Schedule S,” and a streamlined filing form for routine earth station license applications, entitled “Form 312 EZ.” The Commission also clarifies several rules related to the Commission's information requirements for satellite and earth station licenses. These actions are necessary to facilitate compliance with the information requirements applicable to satellite and earth station license applicants.

DATES: The rule revisions contain information requirements that have not been approved by OMB. The Federal Communications Commission will publish a document in the Federal Register announcing the effective date of these rules.

FOR FURTHER INFORMATION CONTACT: Steven Spaeth, Attorney Advisor, Satellite Division, International Bureau, telephone (202) 418-1539 or via the Internet at steven.spaeth@fcc.gov.

SUPPLMENTARY INFORMATION: This is a summary of the Commission's Third Report and Order, IB Docket Nos. 02-34 and 00-248, FCC 03-154, adopted June 26, 2003, and released July 8, 2003. The complete text of this Third Report and Order is available for inspection and copying during normal business hours in the FCC Reference Center (Room), 445 12th Street, SW., Washington, DC 205545, and also may be purchased from the Commission's copy contractor, Qualex International, Portals II, 445 12th Street, SW., Room CY-B402, Washington, DC 20554, telephone (202) 863-2893, facsimile (202) 863-2898 or via email qualexint@lol.com. It is also available on the Commission's Web site at http://www.fcc.gov

Paperwork Reduction Act Analysis

The actions taken in the Third Report and Order have been analyzed with respect to the Paperwork Reduction Act of 1995 (PRA), Public Law 104-13, and found to impose new or modified reporting requirements or burdens on the public. Implementation of these new or modified reporting and recordkeeping requirements will be subject to approval by the Office of Management and Budget (OMB) as prescribed by the PRA, and will go into effect upon announcement in the Federal Register of OMB approval.

Regulatory Flexibility Analysis

As required by the Regulatory Flexibility Act (RFA),¹ Initial Regulatory Flexibility Analyses (IRFAs) were incorporated in the Space Station Reform NPRM in IB Docket No. 02-34,² and the Part 25 Earth Station Streamlining NPRM in IB Docket No. 00-248.³ The Commission sought written public comment on the proposals in the NPRM, including comment on the IRFA. This Final Regulatory Flexibility Analysis (FRFA) conforms to the RFA.⁴

¹ See 5 U.S.C. 603. The RFA, see 5 U.S.C. 601 et. seq., has been amended by the Contract With America Advancement Act of 1996, Pub. L. 104-121, 110 Stat. 847 (1996) (CWAAA). Title II of the CWAAA is the Small Business Regulatory Enforcement Fairness Act of 1996 (SBREFA).

² Amendment of the Commission's Space Station Licensing Rules and Policies, Notice of Proposed Rulemaking, IB Docket No. 02-34, 67 FR 12485 (Mar. 19, 2002).

³ 2000 Biennial Regulatory Review—Streamlining and Other Revisions of Part 25 of the Commission's Rules Governing the Licensing of, and Spectrum Usage by, Satellite Network Earth Stations and Space Stations, Notice of Proposed Rulemaking, IB Docket No. 00-248, 66 FR 1283 (Jan. 8, 2000).

⁴ See 5 U.S.C. 604.

Need for, and Objectives of, the Report and Order: The objective of the rules proposed in the Space Station Reform NPRM and First R&O is to enable the Commission to process applications for satellite licenses more quickly than it can under its current rules. These rule revisions are needed because delays in the current satellite licensing process may impose economic costs on society, and because recent changes in the International Telecommunication Union procedures require us to issue satellite licenses more quickly in order to meet U.S. international treaty obligations. In addition, the current satellite licensing process is not well suited to some satellite systems employing current technology. Finally, revision of the satellite licensing process will facilitate the Commission's efforts to meet its spectrum management responsibilities. By establishing a standardized form for space station applications, the Commission will be able to review and act on those applications more quickly than is now possible.

The objective of the Part 25 Earth Station Streamlining NPRM is to repeal or modify any rules in Part 25 that are no longer necessary in the public interest, as required by section 11 of the Communications Act of 1934, as amended. Section 11 was added to the Communications Act by the Telecommunications Act of 1996, which requires the Commission in every even-numbered year beginning in 1998 to review all regulations that apply to the operations or activities of any provider of telecommunications service and to determine whether any such regulation is no longer necessary in the public interest due to meaningful economic competition. By adopting a streamlined form for routine earth station license applications, we modify some earth station information requirements that are no longer necessary in the public interest.

Summary of Significant Issues Raised by Public Comments In Response to the IRFAs: No comments were submitted directly in response to the IRFAs.

Description and Estimate of the Number of Small Entities To Which Rules Will Apply: The RFA directs agencies to provide a description of, and, where feasible, an estimate of, the number of small entities that may be affected by the proposed rules, if adopted.⁵ The RFA generally defines the term “small entity “ as having the same meaning as the terms “small business,” “small organization,” and “small governmental jurisdiction.” ⁶ In addition, the term “small business” has the same meaning as the term “small business concern” under the Small Business Act.⁷ A small business concern is one which: (1) Is independently owned and operated; (2) is not dominant in its field of operation; and (3) satisfies any additional criteria established by the Small Business Administration (SBA).⁸ A small organization is generally “any not-for-profit enterprise which is independently owned and operated and is not dominant in its field.” ⁹ Nationwide, as of 1992, there were approximately 275,801 small organizations.¹⁰ “Small governmental jurisdiction” generally means “governments of cities, counties, towns, townships, villages, school districts, or special districts, with a population of less than 50,000.” ¹¹ As of 1992, there were approximately 85,006 such jurisdictions in the United States.¹² This number includes 38,978 counties, cities, and towns; of these, 37,566, or 96 percent, have populations of fewer than 50,000.¹³ The Census Bureau estimates that this ratio is approximately accurate for all governmental entities. Thus, of the 85,006 governmental entities, we estimate that 81,600 (91 percent) are small entities. Below, we further describe and estimate the number of small entity licensees that may be affected by the proposed rules, if adopted.

⁵ 5 U.S.C. 603(b)(3).

⁶ Id. 601(6).

⁷ 5 U.S.C. 601(3) (incorporating by reference the definition of “small business concern” in 15 U.S.C. 632). Pursuant to the RFA, the statutory definition of a small business applies “unless an agency, after consultation with the Office of Advocacy of the Small Business Administration and after opportunity for public comment, establishes one or more definitions of such term which are appropriate to the activities of the agency and publishes such definition(s) in the Federal Register.” 5 U.S.C. 601(3).

⁸ Small Business Act, 15 U.S.C. 632 (1996).

⁹ 5 U.S.C. 601(4).

¹⁰ 1992 Economic Census, U.S. Bureau of the Census, Table 6 (special tabulation of data under contract to Office of Advocacy of the U.S. Small Business Administration).

¹¹ 5 U.S.C. 601(5).

¹² U.S. Dept. of Commerce, Bureau of the Census, “1992 Census of Governments.”

¹³ Id.

The rules proposed in the Space Station Reform NPRM and First R&O would affect satellite operators, if adopted. The Commission has not developed a definition of small entities applicable to satellite operators. Therefore, the applicable definition of small entity is generally the definition under the SBA rules applicable to Satellite Telecommunications.¹⁴ This definition provides that a small entity is expressed as one with $11.0 million or less in annual receipts.¹⁵ 1997 Census Bureau data indicate that, for 1997, 273 satellite communication firms had annual receipts of under $10 million. In addition, 24 firms had receipts for that year of $10 million to $24,999,990.¹⁶

¹⁴ “This industry comprises establishments primarily engaged in providing point-to-point telecommunications services to other establishments in the telecommunications and broadcasting industries by forwarding and receiving communications signals via a system of satellites or reselling satellite telecommunications.” Small Business Administration, 1997 NAICS Definitions, NAICS 513340.

¹⁵ 13 CFR 120.121, NAICS code 513340.

¹⁶ U.S. Census Bureau, 1997 Economic Census, Subject Service: Information, “Establishment and Firm Size,” Table 4, NAICS 513340 (Issued Oct. 2000).

In addition, Commission records reveal that there are approximately 240 space station operators licensed by this Commission. We do not request or collect annual revenue information, and thus are unable to estimate the number of licensees that would constitute a small business under the SBA definition. Small businesses may not have the financial ability to become space station licensees because of the high implementation costs associated with satellite systems and services.

Below, we further describe and estimate the number of small entity licensees that may be affected by the rules proposed in the Part 25 Earth Station Streamlining NPRM:

1. Cable Services. The Commission has developed its own small business size standard for a small cable operator for the purposes of rate regulation. Under the Commission's rules, a “small cable company” is one serving fewer than 400,000 subscribers nationwide.¹⁷ Based on our most recent information, we estimate that there were 1,439 cable operators that qualified as small cable companies at the end of 1995.¹⁸ Since then, some of those companies may have grown to serve over 400,000 subscribers, and others may have been involved in transactions that caused them to be combined with other cable operators. Consequently, we estimate that there are fewer than 1,439 small cable companies that may be affected by the proposed rules.

¹⁷ 47 CFR 76.901(e). The Commission developed this definition based on its determinations that a small cable company is one with annual revenues of $100 million or less. See Implementation of Sections of the Cable Television Consumer Protection and Competition Act of 1992: Rate Regulation, MM Doc. Nos. 92-266 and 93-215, Sixth Report and Order and Eleventh Order on Reconsideration, 10 FCC Rcd 7393, 7408-7409 ¶¶ 28-30 (1995).

¹⁸ Paul Kagan Assocs., Inc., Cable TV Investor, Feb. 29, 1996 (based on figures for Dec. 30, 1995).

The Communications Act of 1934, as amended, also contains a size standard for a “small cable operator,” which is “a cable operator that, directly or through an affiliate, serves in the aggregate fewer than one percent of all subscribers in the United States and is not affiliated with any entity or entities whose gross annual revenues in the aggregate exceed $250,000,000.” ¹⁹ The Commission has determined that there are 67,700,000 subscribers in the United States.²⁰ Therefore, an operator serving fewer than 677,000 subscribers shall be deemed a small operator, if its annual revenues, when combined with the total annual revenues of all of its affiliates, do not exceed $250 million in the aggregate.²¹ Based on available data, we estimate that the number of cable operators serving 677,000 subscribers or less totals approximately 1,450.²² We do not request or collect information on whether cable operators are affiliated with entities whose gross annual revenues exceed $250,000,000,²³ and therefore are unable to estimate accurately the number of cable system operators that would qualify as small cable operators under the definition in the Communications Act.

¹⁹ 47 U.S.C. 543(m)(2).

²⁰ See FCC Announces New Subscriber Count for the Definition of Small Cable Operator, Public Notice, 16 FCC Rcd 2225 (2001).

²¹ 47 CFR 76.1403(b).

²² See FCC Announces New Subscriber Count for the Definition of Small Cable Operator, Public Notice, 16 FCC Rcd 2225 (2001).

²³ We do receive such information on a case-by-case basis only if a cable operator appeals a local franchise authority's finding that the operator does not qualify as a small cable operator pursuant to section 76.901(f) of the Commission's rules. See 47 CFR 76.990(b).

2. Satellite Telecommunications Services. The rules adopted in this Third Report and Order affect providers of satellite telecommunications services. Satellite telecommunications service providers include satellite operators and earth station operators. The Commission has not developed a definition of small entities applicable to satellite operators. Therefore, the applicable definition of small entity is generally the definition under the SBA rules applicable to Satellite Telecommunications.²⁴ This definition provides that a small entity is expressed as one with $12.5 million or less in annual receipts.²⁵ 1997 Census Bureau data indicate that, for 1997, 273 satellite communication firms had annual receipts of under $10 million. In addition, 24 firms had receipts for that year of $10 million to $24,999,990.²⁶

²⁴ “This industry comprises establishments primarily engaged in providing point-to-point telecommunications services to other establishments in the telecommunications and broadcasting industries by forwarding and receiving communications signals via a system of satellites or reselling satellite telecommunications.” Small Business Administration, 1997 NAICS Definitions, NAICS 513340.

²⁵ 13 CFR 120.121, NAICS code 513340.

²⁶ U.S. Census Bureau, 1997 Economic Census, Subject Service: Information, “Establishment and Firm Size,” Table 4, NAICS 513340 (Issued Oct. 2000).

3. Auxiliary, Special Broadcast and other program distribution services. This service involves a variety of transmitters, generally used to relay broadcast programming to the public (through translator and booster stations) or within the program distribution chain (from a remote news gathering unit back to the station). The Commission has not developed a definition of small entities applicable to broadcast auxiliary licensees. Therefore, the applicable definition of small entity is the definition under the Small Business Administration (SBA) rules applicable to radio broadcasting stations (NAICS 513112) and television broadcasting stations (NAICS 513120). These definitions provide that a small entity is one with either $6.0 million or less in annual receipts for a radio broadcasting station or $12.0 million in annual receipts for a TV station. See 13 CFR 121.201. As of September 1999, there were 3,237 FM translators and boosters, 4913 TV translators.²⁷ The FCC does not collect financial information on any broadcast facility and the Department of Commerce does not collect financial information on these auxiliary broadcast facilities. We believe, however, that most, if not all, of these auxiliary facilities could be classified as small businesses by themselves. We also recognize that most translators and boosters are owned by a parent station which, in some cases, would be covered by the revenue definition of small business entity as discussed previously. These stations would likely have annual revenues that exceed the SBA maximum to be designated as a small business (as noted, either $6.0 million for a radio station or $12.0 million for a TV station). Furthermore, they do not meet the Small Business Act's definition of a “small business concern” because they are not independently owned and operated.

²⁷ FCC News Release, Broadcast Station Totals as of September 30, 1999, No. 71831 (Jan. 21, 1999).

4. Microwave Services. Microwave services include common carrier,²⁸ private-operational fixed,²⁹ and broadcast auxiliary radio services.³⁰ The proposed rules could affect all common carrier and private operational fixed microwave licensees who are authorized under Part 101 of the Commission's Rules. There is currently no definition of small entities applicable to these specific licensees. Therefore, the applicable small business size standard is the SBA size standard for “Cellular and Other Wireless Telecommunications,” which provides that a small entity in this category is one employing no more than 1,500 persons.³¹ For 1997, there were 2,872 firms in this category, total, which operated for the entire year. Of this total, only 25 had 1,000 or more employees.³²

²⁸ See 47 CFR part 101 (formerly, part 21 of the Commission's Rules).

²⁹ Persons eligible under parts 80 and 90 of the Commission's rules can use Private Operational-Fixed Microwave services. See 47 CFR parts 80 and 90. Stations in this service are called operational-fixed to distinguish them from common carrier and public fixed stations. Only the licensee may use the operational-fixed station, and only for communications related to the licensee's commercial, industrial, or safety operations.

³⁰ Auxiliary Microwave Service is governed by part 74 of Title 47 of the Commission's Rules. See 47 CFR part 74 et seq. Available to licensees of broadcast stations and to broadcast and cable network entities, broadcast auxiliary microwave stations are used for relaying broadcast television signals from the studio to the transmitter, or between two points such as a main studio and an auxiliary studio. The service also includes mobile TV pickups, which relay signals from a remote location back to the studio.

³¹ 13 CFR 121.201, Standard Industrial Classification (SIC) Code 4812.

³² U.S. Census Bureau, 1997 Economic Census, Subject Series: Information, “Employment Size of Establishments of Firms Subject to Federal Income Tax: 1997,” Table 5, NAICS code 51332 (issued October 2000).

Description of Projected Reporting, Recordkeeping, and Other Compliance Requirements: The rules adopted in this Order are not expected to result in any overall increase in the reporting, recordkeeping and other compliance requirements of any licensee. The new reporting requirements we adopt in this Order are generally minor, such as providing slightly more detail in the power flux density (PFD) information space station license applicants are already required to provide. These increases should be offset at least in part by the fact that standardizing some information requirements should make it easier to provide that information.

Steps Taken To Minimize Significant Economic Impact on Small Entities, and Significant Alternatives Considered: In this Order, we adopt a streamlined earth station application form designed to reduce the economic impact on all earth station applicants, including small entities.

We considered and rejected a proposal to eliminate our space station application information requirements and rely instead on information submitted to the ITU because we have no direct control over those information requirements and there is no guarantee that information submitted to the ITU rules will be adequate for U.S. operations.

Report to Congress: The Commission will send a copy of this Order, including this FRFA, in a report to be sent to Congress pursuant to the Congressional Review Act, see 5 U.S.C. 801(a)(1)(A). In addition, the Commission will send a copy of this Order, including FRFA, to the Chief Counsel for Advocacy of the Small Business Administration. A copy of this Order and FRFA (or summaries thereof) will also be published in the Federal Register. See 5 U.S.C. 604(b).

Summary of Report and Order

In this Third Report and Order, the Commission adopts two new filing forms. One form is Schedule S, which standardizes and consolidates much of the information required in satellite applications. The Commission adopts Schedule S as it was proposed in the Notice of Proposed Rulemaking, 67 FR 12498, Mar. 19, 2002, with the following exceptions: (1) On Tables S11, S12, and S13, the Commission eliminated some duplicative information requests, and rearranged the remaining information requests on those tables so that they flow better; (2) specified a format for antenna gain contour diagrams for geostationary orbit (GSO) satellite applications only, not for non-geostationary orbit (GSO) satellite applications; and (3) provides a column for power flux density (PFD) reference bandwidth. Direct Broadcast Satellite (DBS) and non-U.S.-licensed satellite operators seeking access to the U.S. market are required to use Schedule S. The other form adopted in the Third Report and Order in this proceeding is “Form 312EZ,” a streamlined version of Form 312 for routine conventional C-band and Ku-band earth station applications. In addition, the Commission eliminates Form 701, and renames Form 405 as Form 312-R. The Commission delegates to the International Bureau authority to make revisions to its electronic filing system needed to implement these new forms.

The Commission also adopts mandatory electronic filing for routine earth station license applications, and comments and petitions to deny in response to all earth station license applications. The Commission clarifies its rules for earth station license modifications. Furthermore, the Commission revises its rules to allow earth station applicants to specify more than one frequency band, and to specify both common carrier and non-common carrier service. Finally, the Commission eliminates some outmoded rules.

Ordering Clauses

Accordingly, pursuant to sections 4(i), 7(a), 11, 303(c), 303(f), 303(g), and 303(r) of the Communications Act of 1934, as amended, 47 U.S.C. 154(i), 157(a), 161, 303(c), 303(f), 303(g), 303(r), that this Third Report and Order in IB Docket No. 02-34 and Third Report and Order in IB Docket No. 00-248 is hereby ADOPTED.

Part 25 of the Commission's rules is amended as set forth below.

The rule revisions contain information requirements that have not been approved by OMB. The Federal Communications Commission will publish a document in the Federal Register announcing the effective date.

Authority is delegated to the Chief, International Bureau, as set forth in this Order.

The Consumer Information Bureau, Reference Information Center, Shall send a copy of this Order, including the Final Regulatory Flexibility Analysis, to the Chief Counsel for Advocacy of the Small Business Administration.

List of Subjects in 47 CFR Part 25

Satellites.

Federal Communications Commission.
Marlene H. Dortch,
Secretary.

Rule Changes

For the reasons discussed in the preamble, the Federal Communications Commission amends 47 CFR part 25 as follows:

PART 25—SATELLITE COMMUNICATIONS

1. The authority citation for part 25 continues to read as follows:

Authority: 47 U.S.C. 701-744. Interprets or applies Sections 4, 301, 302, 303, 307, 309, and 332 of the Communications Act, as amended, 47 U.S.C. Sections 154, 301, 302, 303, 307, 309, and 332, unless otherwise noted.

2. Amend § 25.103 by revising paragraphs (b) and (c)(2) to read as follows:

§ 25.103 Definitions.

* * * * *

(b) Authorized carrier. The term “authorized carrier” means a communications common carrier which is authorized by the Federal Communications Commission under the Communications Act of 1934, as amended, to provide services by means of communications satellites.

(c) * * *

(2) The corporation shall be deemed to be a common carrier within the meaning of section 3(10) of the Communications Act of 1934, as amended.

* * * * *

3. Amend § 25.111 by revising paragraph (b) to read as follows:

§ 25.111 Additional information.

* * * * *

(b) Applicants, permittees and licensees of radio stations governed by this part shall provide the Commission with all information it requires for the Advance Publication, Coordination and Notification of frequency assignments pursuant to the international Radio Regulations. No protection from interference caused by radio stations authorized by other Administrations is guaranteed unless coordination procedures are timely completed or, with respect to individual administrations, by successfully completing coordination agreements. Any radio station authorization for which coordination has not been completed may be subject to additional terms and conditions as required to effect coordination of the frequency assignments with other Administrations.

* * * * *

4. Revise § 25.114 to read as follows:

§ 25.114 Applications for space station authorizations.

(a) A comprehensive proposal shall be submitted for each proposed space station on FCC Form 312, Main Form and Schedule S, together with attached exhibits as described in paragraph (d) of this section.

(b) Each application for a new or modified space station authorization must constitute a concrete proposal for Commission evaluation. Each application must also contain the formal waiver required by Section 304 of the Communications Act, 47 U.S.C. 304. The technical information for a proposed satellite system specified in paragraph (c) of this section must be filed on FCC Form 312, Main Form and Schedule S. The technical information for a proposed satellite system specified in paragraph (d) of this section need not be filed on any prescribed form but should be complete in all pertinent details. Applications for new space station authorizations other than authorizations for the Direct Broadcast Service (DBS) and Digital Audio Radio Satellite (DARS) service must be filed electronically through the International Bureau Filing System (IBFS).

(c) The following information shall be filed on FCC Form 312, Main Form and Schedule S:

(1) Name, address, and telephone number of the applicant;

(2) Name, address, and telephone number of the person(s), including counsel, to whom inquiries or correspondence should be directed;

(3) Type of authorization requested (e.g., launch authority, station license, modification of authorization);

(4)(i) Radio frequencies and polarization plan (including beacon, telemetry, and telecommand functions), center frequency and polarization of transponders (both receiving and transmitting frequencies),

(ii) Emission designators and allocated bandwidth of emission, final amplifier output power (identify any net losses between output of final amplifier and input of antenna and specify the maximum EIRP for each antenna beam),

(iii) Identification of which antenna beams are connected or switchable to each transponder and TT&C function,

(iv) Receiving system noise temperature,

(v) The relationship between satellite receive antenna gain pattern and gain-to-temperature ratio and saturation flux density for each antenna beam (may be indicated on antenna gain plot),

(vi) The gain of each transponder channel (between output of receiving antenna and input of transmitting antenna) including any adjustable gain step capabilities, and

(vii) Predicted receiver and transmitter channel filter response characteristics.

(5) For satellites in geostationary-satellite orbit,

(i) Orbital location, or locations if alternatives are proposed, requested for the satellite,

(ii) The factors that support the orbital assignment or assignments proposed in paragraph (c)(5)(i) of this section,

(iii) Longitudinal tolerance or east-west station-keeping capability;

(iv) Inclination incursion or north-south station-keeping capability.

(6) For satellites in non-geostationary-satellite orbits,

(i) The number of space stations and applicable information relating to the number of orbital planes,

(ii) The inclination of the orbital plane(s),

(iii) The orbital period,

(iv) The apogee,

(v) The perigee,

(vi) The argument(s) of perigee,

(vii) Active service arc(s), and

(viii) Right ascension of the ascending node(s).

(7) For satellites in geostationary-satellite orbit, accuracy with which the orbital inclination, the antenna axis attitude, and longitudinal drift will be maintained;

(8) Calculation of power flux density levels within each coverage area and of the energy dispersal, if any, needed for compliance with § 25.208, for angles of arrival of 5°, 10°, 15°, 20°, and 25° above the horizontal;

(9) Arrangement for tracking, telemetry, and control;

(10) Physical characteristics of the space station including weight and dimensions of spacecraft, detailed mass (on ground and in-orbit) and power (beginning and end of life) budgets, and estimated operational lifetime and reliability of the space station and the basis for that estimate;

(11) A clear and detailed statement of whether the space station is to be operated on a common carrier basis, or whether non-common carrier transactions are proposed. If non-common carrier transactions are proposed, describe the nature of the transactions and specify the number of transponders to be offered on a non-common carrier basis;

(12) Dates by which construction will be commenced and completed, launch date, and estimated date of placement into service.

(13) The polarization information specified in §§ 25.210(a)(1), (a)(3), and (i), to the extent applicable.

(d) The following information in narrative form shall be contained in each application:

(1) General description of overall system facilities, operations and services;

(2) If applicable, the feeder link and inter-satellite service frequencies requested for the satellite, together with any demonstration otherwise required by this chapter for use of those frequencies (see, e.g., §§ 25.203(j) and (k));

(3) Predicted space station antenna gain contour(s) for each transmit and each receive antenna beam and nominal orbital location requested. These contour(s) should be plotted on an area map at 2 dB intervals down to 10 dB below the peak value of the parameter and at 5 dB intervals between 10 dB and 20 dB below the peak values, with the peak value and sense of polarization clearly specified on each plotted contour. For applications for geostationary orbit satellites, this information must be provided in the .gxt format.

(4) A description of the types of services to be provided, and the areas to be served, including a description of the transmission characteristics and performance objectives for each type of proposed service, details of the link noise budget, typical or baseline earth station parameters, modulation parameters, and overall link performance analysis (including an analysis of the effects of each contributing noise and interference source);

(5) Calculation of power flux density levels within each coverage area and of the energy dispersal, if any, needed for compliance with § 25.208; Calculation of power flux density levels within each coverage area and of the energy dispersal, if any, needed for compliance with § 25.208, for angles of arrival other than 5°, 10°, 15°, 20°, and 25° above the horizontal.

(6) Public interest considerations in support of grant;

(7) Applications for authorizations for fixed-satellite space stations shall also include the information specified in § 25.140;

(8) Applications for authorizations in the Mobile-Satellite Service in the 1545-1559/1646.5-1660.5 MHz frequency bands shall also provide all information necessary to comply with the policies and procedures set forth in Rules and Policies Pertaining to the Use of Radio Frequencies in a Land Mobile Satellite Service, 2 FCC Rcd 485 (1987) (Available at address in § 0.445 of this chapter.);

(9) Applications to license multiple space station systems in the non-voice, non-geostationary mobile-satellite service under blanket operating authority shall also provide all information specified in § 25.142; and

(10) Applications for authorizations in the 1.6/2.4 GHz Mobile-Satellite Service shall also provide all information specified in § 25.143.

(11) In addition to a statement of whether the space station is to be operated on a common carrier basis, or whether non-common carrier transactions are proposed, as specified in paragraph (c)(11) of this section, satellite applications in the Direct Broadcast Satellite service must provide a clear and detailed statement of whether the space station is to be operated on a broadcast or non-broadcast basis.

(12) Applications for authorizations in the non-geostationary satellite orbit fixed-satellite service (NGSO FSS) in the bands 10.7 GHz to 14.5 GHz shall also provide all information specified in § 25.146.

(13) For satellite applications in the Direct Broadcast Satellite service, if the proposed system's technical characteristics differ from those specified in the Appendix 30 BSS Plans, the Appendix 30A feeder link Plans, Annex 5 to Appendix 30 or Annex 3 to Appendix 30A, each applicant shall provide:

(i) The information requested in Appendix 4 of the ITU's Radio Regulations. Further, applicants shall provide sufficient technical showing that the proposed system could operate satisfactorily if all assignments in the BSS and feeder link Plans were implemented.

(ii) Analyses of the proposed system with respect to the limits in Annex 1 to Appendices 30 and 30A.

(e) Applicants requesting authority to launch and operate a system comprised of technically identical, non-geostationary satellite orbit space stations may file a single “blanket” application containing the information specified in paragraphs (c) and (d) of this section for each representative space station.

5. Amend § 25.115 by revising paragraph (a) to read as follows:

§ 25.115 Application for earth station authorizations.

(a) Transmitting earth stations. Except as provided under § 25.113(b) of this Chapter, Commission authorization must be obtained for authority to construct and/or operate a transmitting earth station. Applications shall be filed on FCC Form 312, Main Form and Schedule B, and include the information specified in § 25.130.

(1) Applications for transmitting earth station facilities must be filed electronically through the International Bureau Filing System (IBFS) in all cases where the earth station:

(i) Will transmit in the 3700-4200 MHz and 5925-6425 MHz band, and/or the 11.7-12.2 GHz and 14.0-14.5 GHz band, and

(ii) Will meet all the applicable technical specifications set forth in this part.

(2) Applications for other earth station applications are permitted but not required to be filed electronically. Any party choosing to file an earth station application electronically must file in accordance with the pleading limitations, periods and other applicable provisions of §§ 1.41 through 1.52 of this chapter;

* * * * *

6. Amend § 25.117 by revising paragraphs (a) and (c), and removing and reserving paragraphs (b) and (e), to read as follows:

§ 25.117 Modification of station license.

(a) Except as provided for in § 25.118 (Modifications not requiring prior authorization), no modification of a radio station governed by this part which affects the parameters or terms and conditions of the station authorization shall be made except upon application to and grant of such application by the Commission.

* * * * *

(c) Applications for modification of earth station authorizations shall be submitted on FCC Form 312, Main Form and Schedule B. Applications for modification of space station authorizations shall be submitted on FCC Form 312, Main Form and Schedule S. In addition, any application for modification of authorization to extend a required date of completion, as set forth in § 25.133 for earth station authorization or § 25.164 for space stations, or included as a condition of any earth station or space station authorization, must include a verified statement from the applicant:

(1) That states the additional time is required due to unforeseeable circumstances beyond the applicant's control, describes these circumstances with specificity, and justifies the precise extension period requested; or

(2) That states there are unique and overriding public interest concerns that justify an extension, identifies these interests and justifies a precise extension period.

* * * * *

7. Amend § 25.118 by revising paragraphs (a) and (b) and removing and reserving paragraphs (c) and (d) to read as follows:

§ 25.118 Modifications not requiring prior authorization.

(a) Earth station license modifications, notification required. Authorized earth station operators may make the following modifications to their licenses without prior Commission authorization, provided that the operators notify the Commission, using FCC Form 312 and Schedule B, within 30 days of the modification:

(1) Licensees may make changes to their authorized earth stations without obtaining prior Commission authorization, provided that they have complied with all applicable frequency coordination procedures in accordance with § 25.251, and the modification does not involve:

(i) An increase in EIRP or EIRP density (both main lobe and side lobe);

(ii) An increase in transmitted power;

(iii) A change in coordinates of more than 1 second in latitude or longitude for stations operating in frequency bands that are shared with terrestrial systems; or

(iv) A change in coordinates of 10 seconds or greater in latitude or longitude for stations operating in frequency bands that are not shared with terrestrial systems.

(2) Except for replacement of equipment where the new equipment is electrically identical to the existing equipment, an authorized earth station licensee may add, change or replace transmitters or antenna facilities without prior authorization, provided:

(i) The added, changed, or replaced facilities conform to § 25.209;

(ii) The particulars of operations remain unchanged;

(iii) Frequency coordination is not required; and

(iv) The maximum power and power density delivered into any antenna at the earth station site shall not exceed the values calculated by subtracting the maximum antenna gain specified in the license from the maximum authorized e.i.r.p. and e.i.r.p. density values.

(3) Authorized VSAT earth station operators may add VSAT remote terminals without prior authorization, provided that they have complied with all applicable frequency coordination procedures in accordance with § 25.251.

(4) A licensee providing service on a private carrier basis may change its operations to common carrier status without obtaining prior Commission authorization. The licensee must notify the Commission using Form 312 within 30 days after the completed change to common carrier status.

(5) Earth station operators may change their points of communication without prior authorization, provided that the change results from a space station license modification described in paragraph (e) of this section, and the earth station operator does not repoint its antenna.

(b) Earth station license modifications, notification not required. Notwithstanding paragraph (a)(2) of this section, equipment in an authorized earth station may be replaced without prior authorization and without notifying the Commission if the new equipment is electrically identical to the existing equipment.

* * * * *

8. Amend § 25.121 by revising paragraph (e) to read as follows:

§ 25.121 License term and renewals.

* * * * *

(e) Renewal of licenses. Applications for renewals of earth station licenses must be submitted on FCC Form 312R no earlier than 90 days, and no later than 30 days, before the expiration date of the license. Applications for space station system replacement authorization for non-geostationary orbit satellites shall be filed no earlier than 90 days, and no later than 30 days, prior to the end of the twelfth year of the existing license term.

9. Amend § 25.131 by revising paragraphs (h) and (i) to read as follows:

§ 25.131 Filing requirements for receive-only earth stations.

* * * * *

(h) Registration term: Registrations for receive-only earth stations governed by this section will be issued for a period of 15 years from the date on which the application was filed. Applications for renewals of registrations must be submitted on FCC Form 312R (Application for Renewal of Radio Station License in Specified Services) no earlier than 90 days and no later than 30 days before the expiration date of the registration.

(i) Applications for modification of license or registration of receive-only earth stations shall be made in conformance with §§ 25.117 and 25.118. In addition, registrants are required to notify the Commission when a receive-only earth station is no longer operational or when it has not been used to provide any service during any 6-month period.

* * * * *

§ 25.141 [Removed]

10. Remove § 25.141.

Subpart H—[Removed and Reserved]

11. Part 25 is amended by removing and reserving subpart H.

[FR Doc. 03-28170 Filed 11-10-03; 8:45 am]

BILLING CODE 6712-01-P